DEPARTMENT OF VETERANS AFFAIRS

Advisory Committee on CARES Business Plan Studies; Notice of Meeting

The Department of Veterans Affairs (VA) gives notice under the Public Law 92-463 (Federal Advisory Committee Act) that the Advisory Committee on CARES Business Plan Studies has scheduled a meeting on April 17, 2007, at Montrose VA Medical Center, Building 15, Room 7, 2094 Albany Post Road, Montrose, New York. The meeting will convene at 4 p.m. and conclude at 7 p.m. The meeting is open to the public.

The purpose of the Committee is to provide advice to the Secretary of Veterans Affairs on proposed business plans at those VA facility sites identified in May 2004 as requiring further study by the Capital Asset Realignment for Enhanced Services (CARES) Decision document.

The objective of the meeting is for the CARES contractor to present the business plan options, for the VA Montrose and Castle Point campuses, recommended to VA for further study and those selected by VA. The Committee will provide recommendations to the contractor regarding issues to be addressed in the Stage 2 study of the options selected by VA. The agenda will accommodate public commentary on the issues to be addressed in Stage 2 of the CARES study.

Interested persons may attend and present oral or written statements to the Committee. For additional information regarding the meeting, please contact Mr. Jay Halpern, Designated Federal Officer, (00CARES), at 810 Vermont Avenue, NW., Washington, DC 20420, by phone at (202) 273-5994, or by e-mail at jay.halpern@hq.med.va.gov.

Dated: March 22, 2007.
By Direction of the Secretary.
E. Philip Riggin,
Committee Management Officer.

[FR Doc. 07-1529 Filed 3-28-07; 8:45 am]

BILLING CODE 8320-01-M